DEPARTMENT OF COMMERCE

National Oceanic and Atmospheric Administration

[I.D. 041207F]

Gulf of Mexico Fishery Management Council (Council); Public Meetings

AGENCY: National Marine Fisheries Service (NMFS), National Oceanic and Atmospheric Administration (NOAA), Commerce.

ACTION: Notice of public meetings.

SUMMARY: The Council Coordination Committee (CCC) will convene public meeting consisting of representatives of all eight Regional Fishery Management Councils as well as attendees from the National Marine Fisheries Service.

DATES: The meeting will be held May 8 - 11, 2007.

ADDRESSES: The meeting will be held at the W Hotel, 333 Poydras Street, New Orleans, LA 70130.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION: The CCC will convene a public meeting consisting of representatives of all eight Regional Fishery Management Councils as well as attendees from the National Marine Fisheries Service. The meeting is being hosted/coordinated by the Gulf Council (see ADDRESSES).

Tuesday, May 8, 2007

10:30 a.m. to 5 p.m. - a meeting of the eight regional fishery management Councils' Administrative Officers (AOs) will be held. The AOs will discuss issues relating to the Councils' Standard Operating Practices and Procedures (SOPPs), NOAA grant requirements, record keeping requirements and options, review and updates of various legal opinions, insurance and liability issues, and other general topics related specifically to the fishery management Councils. Also, the Councils and NMFS will separately review and discuss the following agenda items so that the CCC can come to a consensus on a position and the necessary future action needed.

Wednesday, May 9, 2007

8 a.m. - the CCC Session will begin with an opening statement and adoption of the agenda;

8:15 a.m. - overview of actions needed by Councils and NMFS to comply with the Magnuson-Stevens Reauthorization Act (MSRA) provisions for the National Standard 1, the requirement for annual catch limits (ACL), accountability measures, rebuilding plans, and reduction of open access fisheries;

10 a.m. - overview of compliance with National Environmental Policy Act (NEPA) and the MSRA;

11:15 a.m. - discussion of fiscal year (FY) 2007 and FY 2008 Council budgets; and

12 noon - the CCC will break to participate in a hands-on restoration work session to aid fishermen who were victims of Hurricane Katrina.

Thursday, May 11, 2007

8 a.m. - actions to implement Limited Access Privilege Programs (LAPPS); 9:30 am - actions to implement Council member training;

10:15 a.m. - actions needed to include provisions of MSRA into the Council's Standard Operating Practices and Procedures (SOPPs);

10:45 a.m. - applicability of Fair Labor Standards Act to NOAA observers;

11:15 a.m. - receive a briefing on court cases affecting the Magnuson-Stevens Fishery Conservation and Management Act (Magnuson-Stevens Act); the meeting will recess at noon. Friday, May 12, 2007

8 a.m. - U.S. Coast Guard enforcement/safety issues;

8:30 a.m. - items from the preceding Administrative Officer's meeting needing CCC concurrence or discussion;

9:30 a.m. - NOAA's actions under Recreational Data Survey and registry;

10:15 a.m. - update on regulatory streamlining process;

11 a.m. - other Magnuson-Stevens Reauthorization Act (MSRA) timelines affecting Councils;

11:30 a.m. - planning session for the September MSRA Conference/Workshop/CCC Meeting;

12 noon - scheduling the next CCC meeting;

12:30 p.m. - the meeting will adjourn.

A copy of the agenda and related meeting materials may be obtained by contacting Mr. Wayne Swingle at the Gulf Council (see ADDRESSES).

The established times for addressing items on the agenda may be adjusted as necessary to accommodate the timely completion of discussion relevant to the agenda items. In order to further allow for such adjustments and completion of all items on the agenda, the meeting may be extended from, or completed prior to the date established in this notice.

Although other non-emergency issues not on the agendas may come before the CCC for discussion, in accordance with the Magnuson-Stevens Act, those issues may not be the subject of formal action during these meetings. Actions of the CCC will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Tina Trezza at the Council (see ADDRESSES) at least 5 working days prior to the meeting.

Dated: April 16, 2007.
Tracey L. Thompson,
Acting Director, Office of Sustainable Fisheries, National Marine Fisheries Service.

[FR Doc. E7-7419 Filed 4-18-07; 8:45 am]

BILLING CODE 3510-22-S